FEDERAL DEPOSIT INSURANCE CORPORATION

Sunshine Act Meeting

Pursuant to the provisions of the “Government in the Sunshine Act” (5 U.S.C. 552b), notice is hereby given that the Federal Deposit Insurance Corporation's Board of Directors met in open session at 10:05 a.m. on Tuesday, April 26, 2016, to consider the following matters:

SUMMARY AGENDA:

Disposition of minutes of previous Board of Directors' Meetings.

Memorandum and resolution re: Notice of Final Rulemaking: Revisions to Part 341 of the FDIC's Rules and Regulations Requiring the Registration of Securities Transfer Agents.

Summary reports, status reports, and reports of actions taken pursuant to authority delegated by the Board of Directors.

DISCUSSION AGENDA:

Memorandum and resolution re: Notice of Proposed Rulemaking: Incentive-based Compensation Arrangements.

Memorandum and resolution re: Deposit Insurance Assessments for Small Banks.

In calling the meeting, the Board determined, on motion of Vice Chairman Thomas M. Hoenig, seconded by Director Thomas J. Curry (Comptroller of the Currency), concurred in by Director Richard Cordray (Director, Consumer Financial Protection Bureau), and Chairman Martin J. Gruenberg, that Corporation business required its consideration of the matters on less than seven days' notice to the public; and that no earlier notice of the meeting than that previously provided on April 20, 2016, was practicable.

By the same majority vote, the Board also determined that Corporation business required the addition to the agenda for consideration at the meeting on less than seven days' notice to the public, of the following matter and that no notice earlier than April 22, 2016, of the change in subject matter of the meeting was practicable:

Memorandum and resolution re: Notice of Proposed Rulemaking to Implement Liquidity Risk Standards for Certain FDIC Supervised Institutions.

The meeting was held in the Board Room located on the sixth floor of the FDIC Building located at 550 17th Street NW., Washington, DC.

Dated: April 26, 2016.
Robert E. Feldman,
Executive Secretary.

[FR Doc. 2016-10089 Filed 4-26-16; 4:15 pm]

BILLING CODE P